DEPARTMENT OF COMMERCE

National Oceanic and Atmospheric Administration

[I.D. 021203B]

Marine Mammals; File No. 763-1534

AGENCY: National Marine Fisheries Service (NMFS), National Oceanic and Atmospheric Administration (NOAA), Commerce.

ACTION: Receipt of application for permit amendment

SUMMARY: Notice is hereby given that the Smithsonian Institution, National Zoological Park, Washington, D.C. 20008-2598 (Dr. Daryl Boness, Principal Investigator) has requested an amendment to scientific research permit no. 763-1534.

DATES: Written or telefaxed comments must be received on or before April 25, 2003.

ADDRESSES: The amendment request and related documents are available for review upon written request or by appointment in the following office(s):

Permits, Conservation and Education Division, Office of Protected Resources, NMFS, 1315 East-West Highway, Room 13705, Silver Spring, MD 20910; phone (301)713-2289; fax (301)713-0376; and

Assistant Regional Administrator for Protected Resources, Northeast Region, NOAA Fisheries, One Blackburn Drive, Gloucester, MA 01930-2298; phone (508)281-9250; fax (508)281-9371.

Written comments or requests for a public hearing on this request should be submitted to the Chief, Permits, Conservation and Education Division, F/PR1, Office of Protected Resources, NMFS, 1315 East-West Highway, Room 13705, Silver Spring, MD 20910. Those individuals requesting a hearing should set forth the specific reasons why a hearing on this particular amendment request would be appropriate.

Comments may also be submitted by facsimile at (301)713-0376, provided the facsimile is confirmed by hard copy submitted by mail and postmarked no later than the closing date of the comment period. Please note that comments will not be accepted by e-mail or other electronic media.

FOR FURTHER INFORMATION CONTACT: Ruth Johnson or Jennifer Skidmore, (301)713-2289 or e-mail: Ruth.Johnson@noaa.gov or Jennifer.Skidmore@noaa.gov.

SUPPLEMENTARY INFORMATION: The subject amendment, to Permit No. 763-1534 issued on March 10, 2000 (65 FR 14947), is requested under the authority of the Marine Mammal Protection Act of 1972, as amended (16 U.S.C. 1361 et seq.) and the Regulations Governing the Taking and Importing of Marine Mammals (50 CFR part 216).

Permit No. 763-1534 authorizes the National Zoological Park to import and export up to 252 Atlantic grey seal (Halichoerus grypus) samples from Nova Scotia, Canada. The Permit also authorizes opportunistic collection, import/export of specimen materials from non-endangered pinnipeds and cetaceans. The samples are used for DNA analysis to determine if grey seal alternative mating strategies exist across all ages and provide comaprable rates of reproductive success to the primary strategy.

The permit holder now requests authorization to: (1) Import up to 70 muscle tissue samples and 390 blood samples taken from grey seals on Sable Island, Canada during 2003; (2) import 400 blood plasma samples per year taken from captive hooded seals in Norway; (3) add Dr. Shawn N. Kramer as a co-investigator; and (4) extend the period of the permit through March 2005. The objectives of the studies are: to investigate the relationship between body mass at weaning, rate of mass loss and development of oxygen storage capacity during the post-weaning fast; the time of departure from the breeding grounds; and to conduct a validation study using captive hooded seals to determine details of foraging activity that will allow scientists to estimate body composition and to determine dose-response and kinetics of excretion of biomarkers.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of this application to the Marine Mammal Commission and its Committee of Scientific Advisors.

Dated: March 19, 2003.
Stephen L. Leathery,
Chief, Permits, Conservation and Education Division, Office of Protected Resources, National Marine Fisheries Service.

[FR Doc. 03-7253 Filed 3-25-03; 8:45 am]

BILLING CODE 3510-22-S